INTERNATIONAL TRADE COMMISSION

[Investigation No. 337-TA-760]

In the Matter of Certain Liquid Crystal Display Devices, Products Containing Same, and Methods for Using the Same; Notice of Commission Decision Not To Review an Initial Determination Terminating the Investigation

AGENCY: U.S. International Trade Commission.

ACTION: Notice.

SUMMARY: Notice is hereby given that the U.S. International Trade Commission has determined not to review the presiding administrative law judge's initial determination (“ID”) (Order No. 9) granting a joint motion to terminate the investigation.

FOR FURTHER INFORMATION CONTACT: Sidney A. Rosenzweig, Office of the General Counsel, U.S. International Trade Commission, 500 E Street, SW., Washington, DC 20436, telephone (202) 708-2532. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on March 2, 2011, based on a complaint filed by Sharp Corporation of Japan (“Sharp”) that named as respondents: AU Optronics Corp. of Taiwan; AU Optronics Corporation America of Houston, Texas; BenQ America of Irvine, California; BenQ Corporation of Taiwan; Haier America Trading LLC, of New York, New York; Haier Group Company of China; LG Electronics Inc. of South Korea; LG Electronics U.S.A., Inc. of Englewood Cliffs, New Jersey; SANYO Electric Co. of Japan; SANYO North America Corporation of San Diego, California; TCL Corporation of China; TTE Technology, Inc. d/b/a TCL America of Indianapolis, Indiana; and VIZIO, Inc. of Irvine, California. 76 FR 11512 (Mar. 2, 2011). The complaint alleged a violation of section 337 of the Tariff Act of 1930, as amended, 19 U.S.C. 1337, in the importation, sale for importation, and sale within the United States after importation of certain liquid crystal display (“LCD”) devices, products containing same, and methods for using same by reason of the infringement of certain claims of U.S. Patent Nos. 6,879,364; 7,304,626; 7,532,183; 7,283,192; 6,937,300; 7,057,689; and 7,838,881.

On April 21, 2011, Sharp and the AU Optronics respondents (“AUO”) filed a joint motion for termination of the investigation on the basis of settlement and licensing agreements. No other party opposed the motion. The agreements call for Sharp and AUO to terminate the investigation and to dismiss parallel district court proceedings. The other respondents make or sell products that contain accused AUO LCD components, and the settlement between Sharp and AUO thereby resolved all disputes in the investigation.

On May 3, 2011, the ALJ granted the motion as an ID (Order No. 9).

No petitions for review of the ID were filed. The Commission has determined not to review the ID.

The authority for the Commission's determination is contained in section 337 of the Tariff Act of 1930, as amended (19 U.S.C. 1337), and in Part 210 of the Commission's Rules of Practice and Procedure (19 CFR part 210).

By order of the Commission.
Issued: May 23, 2011.
James R. Holbein,
Secretary to the Commission.

[FR Doc. 2011-13189 Filed 5-26-11; 8:45 am]

BILLING CODE 7020-02-P